DEPARTMENT OF THE INTERIOR

Bureau of Land Management

[CACA106239889 L71220000.EU0000 24X.LVTFB24663A0; MO44500180628]

Direct Sale of Public Lands in Barstow, San Bernardino County, California

AGENCY: Bureau of Land Management, Interior.

ACTION: Notice of realty action.

SUMMARY: The Bureau of Land Management (BLM) is proposing a non-competitive (direct) sale of public lands near Barstow, San Bernardino County, California, to Burlington Northern Santa Fe (BNSF), LLC, a Delaware Corporation, under the provisions of the Federal Land Policy and Management Act of 1976 (FLPMA), as amended, and BLM land sale regulations. The purpose of the non-competitive land sale to BNSF is to support development of the Barstow International Gateway project, which would facilitate the transfer of goods between different modes of transportation throughout the United States, including rail, truck, and ocean carriers. The sale will be for no less than the appraised fair market value (FMV) of $98,000.

DATES: Interested parties may submit written comments no later than October 15, 2024. The land will not be offered for sale until after October 28, 2024.

ADDRESSES: Written comments regarding the proposed sale should be submitted to BLM, Barstow Field Office, ATTN: Tim McCain, Realty Specialist, 2601 Barstow Road, Barstow, California 92311, or via email to tmccain@blm.gov.

FOR FURTHER INFORMATION CONTACT: Tim McCain, Realty Specialist, BLM Barstow Field Office, phone: 951-972-7849, email: tmccain@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The public lands are located approximately one-half mile west of the city of Barstow in San Bernardino County, California, and are legally described below.

San Bernardino Meridian, California

T. 9 N., R. 3 W.,

Sec. 23, N½SW¼SE¼SE¼, N½SE¼SE¼SE¼, and S½SE¼SE¼SE¼;

Sec. 26, NW¼NE¼NE¼ and N½SW¼NE¼NE1/14.

The areas described aggregate 30 acres, according to the official plat of the survey on file with the BLM.

The proposed sale of the parcels described above is in conformance with the land use plan as the parcels have been designated as Development Focus Areas available for disposal in the California Desert Conservation Area Plan of 1980, as amended by the Desert Renewable Energy Conservation Plan of 2016. Conveyance of any mineral interests pursuant to section 209 of FLPMA have been analyzed as a part of this transaction, and the authorized officer determined that all mineral interests will be reserved to the United States. The land sale meets the criteria for a direct sale under 43 CFR 2711.3-3(a) and is consistent with Section 203(a)(3) of FLPMA, which states: “Disposal of such tract will serve important public objectives, including but not limited to expansion of communities and economic development.”

Publication of this notice in the Federal Register will segregate the above-described lands from appropriation under the public land laws, including the mining laws, except the sale provisions of FLPMA, pursuant to the requirements of 43 CFR 2711.1-2(d). All parcels are subject to valid existing rights. Parcels may also be subject to mining claims, rights-of-way, or other land use applications received prior to publication of this notice if processing the application would have no adverse effect on the marketability of title or the federally approved FMV of a parcel. Encumbrances of record, appearing in the BLM public files for the parcels proposed for sale, are available for review during business hours 9 a.m. to 5 p.m. Pacific Time, Monday through Friday, at the BLM Barstow Field Office (see ADDRESSES). Subject to limitations prescribed by law and regulation, prior to patent issuance, a holder of any right-of-way within the parcels may be given the opportunity to amend the right-of-way for conversion to a new term, including perpetuity, if applicable, or to an easement. Until completion of the sale, the BLM will no longer accept land use applications affecting the identified public lands, except applications for the amendment of previously filed right-of-way applications or existing authorizations to increase the term of the grants in accordance with 43 CFR 2807.15 and 2886.15. Conveyance of the identified public land would be subject to valid existing rights of record and the following terms, conditions, and reservations:

1. A reservation of a right-of-way for ditches and canals constructed by authority of the United States, Act of August 30, 1890 (43 U.S.C. 945).

2. A reservation of all minerals to the United States, and the right to prospect for, mine, and remove the minerals under applicable law and any regulations that the Secretary of the Interior may prescribe, including all necessary access and exit rights, pursuant to 43 CFR 2720.0-6.

3. An appropriate indemnification clause protecting the United States from claims arising out of the purchaser's use, occupancy, or operations on the conveyed lands.

4. Additional terms and conditions that the authorized officer deems appropriate.

The segregation will terminate upon issuance of a patent, publication in the Federal Register of a termination of the segregation, or 2 years after the date of publication of this notice in the Federal Register, unless extended by the BLM State Director in accordance with 43 CFR 2711.1-2(d) prior to the termination date. Detailed information concerning the proposed land sale including the Environmental Assessment, maps, appraisal report, environmental site assessment, and mineral potential report are available for review at the BLM Barstow Field Office listed in the ADDRESSES section earlier.

In addition to publication in the Federal Register, the BLM will also publish this notice in the Los Angeles Times, Daily Press, High Desert Star, and the San Bernardino Sun news sources once a week for 3 consecutive weeks.

Interested parties may submit substantive written comments regarding the proposed sale and environmental assessment DOI-BLM-CA-D080-2024-0012-EA via the BLM National NEPA Register at https://eplanning.blm.gov/eplanning-ui/project/2033900/510 or by mail to the realty specialist at the above address on or before October 15, 2024. Adverse comments regarding the proposed sale will be reviewed by the BLM California State Director or other authorized official of the Department of the Interior, who may sustain, vacate, or modify this realty action in whole or in part. In the absence of timely objections, this realty action will become the final determination of the Department of the Interior.

Before including your address, phone number, email address, or other personal identifying information in your comment, be advised that your entire comment-including your personal identifying information—may be made publicly available at any time. While you can ask us in your comment to withhold from public review your personal identifying information, we cannot guarantee that we will be able to do so.

(Authority: 43 CFR subpart 2711)

Joseph Stout,
State Director, California Bureau of Land Management.

[FR Doc. 2024-19256 Filed 8-27-24; 8:45 am]

BILLING CODE 4331-15-P